DEPARTMENT OF THE TREASURY

Office of Foreign Assets Control

31 CFR Part 590

Publication of Transnational Criminal Organizations Sanctions Regulations Web General License 1

AGENCY: Office of Foreign Assets Control, Treasury.

ACTION: Publication of a web general license.

SUMMARY: The Department of the Treasury's Office of Foreign Assets Control (OFAC) is publishing a general license (GL) issued pursuant to the Transnational Criminal Organizations Sanctions Regulations: GL 1. This GL was previously made available on OFAC's website.

DATES: GL 1 was issued on October 14, 2025. See SUPPLEMENTARY INFORMATION for additional relevant dates.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov/.

Background

On October 14, 2025, OFAC issued GL 1 to authorize certain transactions otherwise prohibited by the Transnational Criminal Organizations Sanctions Regulations, 31 CFR part 590. GL 1 was made available on OFAC's website (https://ofac.treasury.gov) when it was issued. The text of this GL is provided below.

OFFICE OF FOREIGN ASSETS CONTROL

Transnational Criminal Organizations Sanctions Regulations

31 CFR Part 590

GENERAL LICENSE NO. 1

Authorizing the Wind Down of Transactions Involving Certain Persons Blocked on October 14, 2025

(a) Except as provided in paragraph (b) of this general license, all transactions prohibited by the Transnational Criminal Organizations Sanctions Regulations, 31 CFR part 590 (TCOSR), that are ordinarily incident and necessary to the wind down of any transaction involving one or more of the following blocked entities are authorized through 12:01 a.m. eastern standard time, November 13, 2025, provided that any payment to a blocked person is made into a blocked account, in accordance with the TCOSR:

(1) Prince Holding Group;

(2) Prince Bank Plc.;

(3) Prince Huan Yu Real Estate Cambodia Group Co., Ltd; or

(4) Any entity in which one or more of the above persons own, directly or indirectly, individually or in the aggregate, a 50 percent or greater interest.

(b) This general license does not authorize any transactions otherwise prohibited by the TCOSR, including transactions involving any person blocked pursuant to the TCOSR other than the blocked persons described in paragraph (a) of this general license, unless separately authorized.

Bradley T. Smith,

Director, Office of Foreign Assets Control.

Dated: October 14, 2025.

Bradley T. Smith,
Director, Office of Foreign Assets Control.

[FR Doc. 2026-00948 Filed 1-16-26; 8:45 am]

BILLING CODE 4810-AL-P